DEPARTMENT OF JUSTICE

[Docket No. OLP 156]

Notice of Public Comment Period on the Presentation of the Forensic Science Discipline Review Framework

AGENCY: Department of Justice.

ACTION: Notice.

SUMMARY: This notice announces the opening of the public comment period on the presentation of the Forensic Science Discipline Review (FSDR) framework.

DATES: Written public comment regarding the presentation should be submitted through www.regulations.gov before May 9, 2016.

FOR FURTHER INFORMATION CONTACT: The Office of Legal Policy, 950 Pennsylvania Avenue NW., Washington, DC 20530, by phone at 202-514-4601 or via email at FSDR.OLP@usdoj.gov.

SUPPLEMENTARY INFORMATION: At the 2016 American Academy of Forensic Sciences (AAFS) Meeting, Deputy Attorney General Sally Yates announced that the Department of Justice (DOJ) would undertake a “quality assurance review” of certain forensic disciplines practiced by the Federal Bureau of Investigation (FBI), and that the DOJ would seek input from the National Commission on Forensic Science (NCFS) in developing this review. Jonathan J. Wroblewski, Office of Legal Policy, Principal Deputy Assistant Attorney General, presented the draft framework for the FSDR to the NCFS on March 21, 2016. The proposed FSDR would advance the practice of forensic science by ensuring DOJ forensic examiners have testified as appropriate in legal proceedings. The presentation is available online at https://www.justice.gov/ncfs/file/835636/download. Members of the public are welcomed to provide comments on this proposed framework.

Posting of Public Comments: To ensure proper handling of comments, please reference “Docket No. OLP 156” on all electronic and written correspondence. The Department encourages all comments on this framework be submitted electronically through www.regulations.gov using the electronic comment form provided on that site. Paper comments that duplicate the electronic submission are not necessary as all comments submitted to www.regulations.gov will be posted for public review and are part of the official docket record.

In accordance with the Federal Records Act, please note that all comments received are considered part of the public record, and shall be made available for public inspection online at http://www.regulations.gov. The comments to be posted may include personally identifiable information (such as your name, address, etc.) and confidential business information voluntarily submitted by the commenter.

DOJ will post all comments received on http://www.regulations.gov without making any changes to the comments or redacting any information, including any personally identifiable information provided. It is the responsibility of the commenter to safeguard personally identifiable information. You are not required to submit personally identifying information in order to comment on this presentation DOJ recommends that commenters not include personally identifiable information such as Social Security Numbers, personal addresses, telephone numbers, and email addresses that they do not want made public in their comments as such submitted information will be available to the public via http://www.regulations.gov. Comments submitted through http://www.regulations.gov will not include the email address of the commenter unless the commenter chooses to include that information as part of his or her comment.

Dated: April 4, 2016.
Kira Antell,
Senior Counsel, Office of Legal Policy.

[FR Doc. 2016-08136 Filed 4-7-16; 8:45 am]

BILLING CODE 4410-18-P